ENVIRONMENTAL PROTECTION AGENCY

40 CFR Part 52

[EPA-R04-OAR-2015-0292; FRL-9960-59-Region 4]

Air Plan Approval; Georgia; Inspection and Maintenance Program Updates

AGENCY: Environmental Protection Agency (EPA).

ACTION: Direct final rule.

SUMMARY: The Environmental Protection Agency (EPA) is taking direct final action to approve the State Implementation Plan (SIP) revision submitted by the State of Georgia, through the Georgia Environmental Protection Division (GA EPD) on August 6, 2014, pertaining to rule changes for the Georgia Inspection and Maintenance (I/M) program. EPA is approving this SIP revision as modified by GA EPD through a December 1, 2016, partial withdrawal letter. EPA is taking this action because the State has demonstrated that the SIP revision is consistent with the Clean Air Act (CAA or Act).

DATES: This direct final rule is effective on June 9, 2017 without further notice, unless EPA receives relevant adverse comment by May 10, 2017. If EPA receives such comment, EPA will publish a timely withdrawal in the Federal Register informing the public that this rule will not take effect.

ADDRESSES: Submit your comments, identified by Docket ID No. EPA-R04-OAR-2015-0292 at https://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Richard Wong, Air Regulatory Management Section, Air Planning and Implementation Branch, Air, Pesticides and Toxics Management Division, U.S. Environmental Protection Agency, Region 4, 61 Forsyth Street SW., Atlanta, Georgia 30303-8960. Mr. Wong can be reached via phone at (404) 562-8726 or electronic mail at wong.richard@epa.gov.

SUPPLEMENTARY INFORMATION:

I. Background

The CAA requires certain areas that are designated as moderate, serious, severe, or extreme ozone nonattainment areas to establish a motor vehicle I/M program to ensure regular monitoring of gasoline fueled motor vehicle emissions by requiring that vehicles undergo periodic emissions testing. See CAA sections 182(b)(4), (c)(3). This emissions testing ensures that vehicles are well maintained and operating as designed and do not exceed established vehicle pollutant limits. A basic I/M program is required for certain moderate areas and an enhanced I/M program is required for certain serious, severe, or extreme ozone nonattainment areas.

In 1991, EPA classified a 13-county area in and around the Atlanta, Georgia, metropolitan area as a serious ozone nonattainment area for the 1990 1-hour ozone National Ambient Air Quality Standards (NAAQS), triggering the requirement for the State to establish an enhanced I/M program for this area.¹ In 1996, Georgia submitted its enhanced I/M program to EPA for incorporation into the SIP. EPA granted interim approval of the State's program in August 1997. See 62 FR 42916 (August 11, 1997). Full approval was granted in the direct final rule published in January 2000. See 65 FR 4133 (January 26, 2000). Since that time, EPA has approved several SIP revisions regarding the State's I/M program.

¹ On November 6, 1991, EPA designated and classified the following counties in and around the Atlanta, Georgia, metropolitan area as a serious ozone nonattainment area for the 1-hour ozone NAAQS: Cherokee, Clayton, Cobb, Coweta, DeKalb, Douglas, Fayette, Forsyth, Fulton, Gwinnett, Henry, Paulding, and Rockdale. See 56 FR 56694.

In 1997, EPA established an 8-hour ozone NAAQS and subsequently designated areas according to their attainment status. On April 30, 2004, EPA designated a 20-county area in and around metropolitan Atlanta as a marginal ozone nonattainment area for the 1997 8-hour ozone NAAQS.² See 69 FR 23858. EPA reclassified these counties as a moderate ozone nonattainment area on March 6, 2008, because the area failed to attain the 1997 8-hour ozone NAAQS by the required attainment date of June 15, 2007. See 73 FR 12013. Subsequently, the area attained the 1997 8-hour ozone standard, and on December 2, 2013, EPA redesignated the counties to attainment for the 1997 8-hour ozone NAAQS. See 78 FR 72040.

² The nonattainment area for the 1997 8-hour ozone standard consisted of the following counties: Barrow, Bartow, Carroll, Cherokee, Clayton, Cobb, Coweta, DeKalb, Douglas, Fayette, Forsyth, Fulton, Gwinnett, Hall, Henry, Newton, Paulding, Rockdale, Spalding, and Walton.

On March 12, 2008, EPA revised the 8-hour ozone NAAQS. See 73 FR 16436 (March 27, 2008). EPA designated a 15-county area in and around metropolitan Atlanta as a marginal ozone nonattainment area for the 2008 8-hour ozone NAAQS on April 30, 2012 (effective July 20, 2012).³ See 77 FR 30088 (May 21, 2012). EPA reclassified these counties as a moderate ozone nonattainment area on April 11, 2016, because the area failed to attain the 2008 8-hour ozone NAAQS by the required attainment date of July 20, 2015. See 81 FR 26697 (May 4, 2016).⁴

³ The nonattainment area for the 2008 8-hour ozone standard consists of the following counties: Bartow, Cherokee, Clayton, Cobb, Coweta, DeKalb, Douglas, Fayette, Forsyth, Fulton, Gwinnett, Henry, Newton, Paulding, and Rockdale.

⁴ Subsequent to the reclassification of the Atlanta Area, EPA determined that the Area has attained the 2008 8-hour ozone NAAQS based on 2013-2015 monitoring data. See 81 FR 45419 (July 14, 2016). However, an attainment determination is not equivalent to a redesignation under CAA section 107(d)(3). The Area will remain nonattainment for the 2008 8-hour ozone NAAQS and subject to the NNSR requirements for that NAAQS until such time as EPA determines that the Area meets the requirements for redesignation to attainment. EPA proposed to redesignate the Area in a notice of proposed rulemaking published on December 23, 2016 (81 FR 94283).

II. EPA's Analysis of Georgia's SIP Revision

In the August 6, 2014, SIP revision, GA EPD requested that EPA take action to update the SIP to include changes to the Georgia I/M program. The submittal revises several rules within Georgia Rule Chapter 391-3-20, Enhanced Inspection and Maintenance, for the purpose of providing: Clarification, consistency with federal rules, consistency with the Georgia Motor Vehicle Inspection and Maintenance Act, and improved enforceability. On December 1, 2016, GA EPD submitted a partial withdrawal letter withdrawing the proposed revision to Georgia Rule 391-3-20-.06, “On Road Testing”, from the SIP revision.

The remaining changes in Georgia's August 6, 2014, SIP revision after the withdrawal letter pertain to Georgia Rules 391-3-20-.01; 391-3-20-.03 through 391-3-20-.05; 391-3-20-.07 through 391-3-20-.13; and 391-3-20-.15 through 391-3-20-.22. Further explanation of these changes is provided below and in the SIP revision:

• Rule 391-3-20-.01, “Definitions,” is being amended to be consistent with revisions to the Inspection and Maintenance Test Manual, to remove obsolete language, to include new definitions consistent with changes to other Inspection and Maintenance rules, to make definitions consistent with EPA definitions, to reference a new Test Manual and a new Procedures Manual, and to remove redundant language that is currently in the Georgia Motor Vehicle Emissions Inspection and Maintenance Act.

• Rule 391-3-20-.03, “Covered Vehicles; Exemptions,” is being amended to clarify certain provisions, to update terminology to be consistent with current emission inspection technology, and to update a reference to another State agency.

• Rule 391-3-20-.04, “Emission Inspection Procedures,” is being amended to provide clarification regarding inspections required by the Inspection and Maintenance Act and to update it to current terminology.

• Rule 391-3-20-.05, “Emission Standards,” is being amended to use standard terminology, to remove obsolete language, and to add new terminology due to advances in the emission testing industry.

• Rule 391-3-20-.07, “Inspection Equipment System Specifications,” is being amended to update terminology to be consistent, use generic terminology, and to clarify the meaning of the rule.

• Rule 391-3-20-.08, “Quality Control and Equipment Calibration Procedures,” is being amended to allow for better enforcement of the rules, to update standard terminology, and to remove a duplicate section.

• Rule 391-3-20-.09, “Inspection Station Requirements,” is being amended to provide clarification by using standard terms, to add clarifying language, and to remove unnecessary and obsolete language. The amendments also change the time frame from five days to three days for notifying the management contractor when an inspector leaves employment of an inspection station. The clarifications will enhance the State's compliance and enforcement capabilities with regard to liability insurance.

• Rule 391-3-20-.10, “Certificates of Authorization,” is being amended to clarify the requirements in this rule, make them consistent with current practice, and improve GA EPD's ability to properly enforce the inspection and maintenance rules. Among other things, the amendments: (1) Add a requirement that renewal certificates be submitted at least 30 days prior to expiration to allow sufficient time for processing; (2) remove the 10-day time limit for maintaining dedicated data transmission lines at a sold station and require data lines to be maintained until the close-out audit is complete; and (3) clarify that new inspection station owners must obtain a Certificate of Authorization prior to operating the station. Subparagraph (7) is being removed to improve the State's ability to deny a renewal when there is sufficient cause.

• Rule 391-3-20-.11, “Inspector Qualifications and Certification,” is being amended to clarify the requirements of this section by removing obsolete terms, updating language, and adding necessary requirements.

• Rule 391-3-20-.12, “Schedules for Emission Inspections,” is being amended to clarify and update the requirements.

• Rule 391-3-20-.13, “Certificate of Emission Inspection,” is being amended to update this section and add clarification.

• Rule 391-3-20-.15, “Repairs and Reinspections,” is being amended to clarify terminology and use standardized terms.

• Rule 391-3-20-.16, “Extensions and Reciprocal Inspections,” is being amended to make the rule consistent with the Inspection and Maintenance Act.

• Rule 391-3-20-.17, “Waivers,” is being amended to use standardized terminology, eliminate obsolete provisions, and to specify the requirements for obtaining waivers consistent with current procedures.

• Rule 391-3-20-.18, “Sale of Vehicles,” is being amended to specify that GA EPD has the option to collect a civil penalty of up to $5,000 per day for any violation of any requirement of the Georgia Motor Vehicle Emissions Inspection and Maintenance Act and Rules, including the car sales provisions, as an alternative to criminal penalties.

• Rule 391-3-20-.19, “Management Contractor,” is being amended to reflect a reorganization of state agencies by changing “Georgia Department of Motor Vehicle Safety” to “Georgia Department of Revenue, Motor Vehicle Division” and adding language for future name changes.

• Rule 391-3-20-.20, “Referee Program,” is being amended to make it consistent with the Inspection and Maintenance Act and to update terminology.

• Rule 391-3-20-.21, “Inspection Fees,” is being amended to remove obsolete provisions.

• Rule 391-3-20-.22, “Enforcement,” is being amended to remove obsolete wording.

Section 110(l) of the CAA prevents EPA from approving a SIP revision that would interfere with any applicable requirement concerning attainment and reasonable further progress (as defined in section 171), or any other applicable requirement of the Act. EPA has preliminarily determined that these changes will not interfere with any applicable requirement concerning attainment or any other applicable requirement of the CAA, and therefore satisfy section 110(l), because they are either administrative or remove requirements that do not have an air quality impact such that removal will interfere with attainment or maintenance of the NAAQS in any area in Georgia.

III. Incorporation by Reference

In this rule, EPA is finalizing regulatory text that includes incorporation by reference. In accordance with requirements of 1 CFR 51.5, EPA is finalizing the incorporation by reference of Georgia Rules 391-3-20-.01, 391-3-20-.03 through 391-3-20-.05, Georgia Rules, 391-3-20-.07 through 391-3-20-.13, and 391-3-20-.15 through 391-3-20-.22 (state effective date of June 19, 2014). Therefore, these rules (state effective date of June 19, 2014) have been incorporated by reference by EPA into that plan, are fully federally enforceable under sections 110 and 113 of the CAA as of the effective date of the final rulemaking of EPA's approval, and will be incorporated by reference by the Director of the Federal Register in the next update to the SIP compilation.⁵ EPA has made, and will continue to make, these materials generally available through https://www.regulations.gov and/or at the EPA Region 4 Office (please contact the person identified in the “For Further Information Contact” section of this preamble for more information).

⁵ 62 FR 27968 (May 22, 1997).

IV. Final Action

EPA is taking direct final action to revise the Georgia SIP to include the changes to Georgia Rules 391-3-20-.01; 391-3-20-.03 through 391-3-20-.05; 391-3-20-.07 through 391-3-20-.13; and 391-3-20-.15 through 391-3-20-.22 related to the State's I/M program. EPA has concluded that the State's submission meets the requirements of section 110 of the CAA.

EPA is publishing this rule without prior proposal because the Agency views this as a noncontroversial submittal and anticipates no adverse comments. However, in the proposed rules section of this Federal Register publication, EPA is publishing a separate document that will serve as the proposal to approve the SIP revision should adverse comments be filed. This rule will be effective June 9, 2017 without further notice unless the Agency receives adverse comments by May 10, 2017.

If EPA receives such comments, then EPA will publish a document withdrawing the final rule and informing the public that the rule will not take effect. All adverse comments received will then be addressed in a subsequent final rule based on the proposed rule. EPA will not institute a second comment period. Parties interested in commenting should do so at this time. If no such comments are received, the public is advised that this rule will be effective on June 9, 2017 and no further action will be taken on the proposed rule.

Please note that if EPA receives adverse comment on an amendment, paragraph, or section of this rule and if that provision may be severed from the remainder of the rule, the Agency may adopt as final those provisions of the rule that are not the subject of an adverse comment.

V. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Public Law 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by June 9, 2017. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. See section 307(b)(2).

List of Subjects in 40 CFR Part 52

Environmental protection, Air pollution control, Carbon monoxide, Incorporation by reference, Intergovernmental relations, Nitrogen dioxide, Ozone, Reporting and recordkeeping requirements, Volatile organic compounds.

Dated: March 15, 2017.
V. Anne Heard,
Acting Regional Administrator, Region 4.

40 CFR part 52 is amended as follows:

PART 52—APPROVAL AND PROMULGATION OF IMPLEMENTATION PLANS

1. The authority citation for part 52 continues to read as follows:

Authority: 42.U.S.C. 7401 et seq.

Subpart L—Georgia

2. In § 52.570, the table in paragraph (c) is amended by revising the entry “391-3-20” to read as follows:

§ 52.570 Identification of plan.

* * * * *

(c) * * *

EPA Approved Georgia Regulations
State citation | Title/subject | State effective date | EPA approval date | Explanation
* * * * * * *
Emission Standards
* * * * * * *
391-3-20 | Enhanced Inspection and Maintenance | 6/19/2014 | 4/10/2017 [Insert Federal Register citation] |
* * * * * * *

* * * * *

[FR Doc. 2017-07032 Filed 4-7-17; 8:45 am]

BILLING CODE 6560-50-P